DEPARTMENT OF COMMERCE

National Institute of Standards and Technology

Announcement of Radio and Telephone Terminal Equipment Directive Training Workshop

AGENCY: National Institute of Standards and Technology, Department of Commerce.

ACTION: Notice.

SUMMARY: The National Institute of Standards and Technology (NIST) invites interested parties to attend a two-day Radio and Telephone Terminal Equipment (R&TTE) Directive training workshop. The workshop is aimed at providing information to potential U.S. conformity assessment bodies (CABs) for compliance with the requirement of the R&TTE Directive 1999/5/EC and its impact on the current EMC Directive 89/336/EEC. The morning session of the first day of the workshop will be devoted to general introduction to EMC Directive including operation of Competent Bodies and the use of Technical Construction Files. The afternoon of the first day and the second full day of the workshop will be devoted to the requirements of R&TTE Directive.

The European Union (EU) personnel will conduct this workshop. NIST and Federal Communications Commission personnel will participate. There is a fee of $175 for each attendee of the training workshop. All attendees must register no later than July 7, 2000.

DATES: The EMC Directive component of the training workshop will be held on July 17, 2000, from 9:00 AM to Noon. The R&TTE Directive component will be held on July 17 from 1:00 to 5:00 PM and on July 18, 2000, from 9:00 AM to 5:00 PM.

ADDRESSES: Both days of the training workshop will be held at the Quality Suites-Shady Grove, 3 Research Court, Rockville, Maryland 20850 (near Shady Grove exit off Interstate I-270).

FOR FURTHER INFORMATION CONTACT: For registration information, you may telephone R&TTE Workshop Coordinator, Lori Buckland at (301) 975-3881. You may register for the workshop by E-mail addressed to lori.buckland@nist.gov or by facsimilie at (301) 948-2067. You may also register by U.S. mail addressed to Lori Buckland, R&TTE Workshop Coordinator, NIST, 100 Bureau Drive, Mail Stop 3461, Gaithersburg, MD 20899-3461. Training program information and the registration form is available at the NIST Web site at http://www.nist.gov/public_affairs/confpage/conffutr.htm. For technical information regarding the workshop, please call Jogindar Dhillon at 301-975-5521 or send on E-mail to dhillon@nist.gov.

SUPPLEMENTARY INFORMATION: Section VIII, of the Telecommunication Equipment and Electromagnetic Compatibility Sectoral Annexes of the U.S./EU Mutual Recognition Agreement (MRA), recommends that the MRA partners sponsor seminars concerning the relevant technical and product approval requirements. A copy of the U.S./EU MRA can be accessed at http://www/ustr.gov/agreements/mra/mral.pdf. The new R&TTE Directive 1999/5/EC came into force on March 9, 1999, that replaced the old TTE Directive 98/13/EC. The text of the R&TTE Directive can be accessed through http://www.europa.eu.int/comm/dgs_en.htm.

Before the training workshop, the Telecommunication Certification Bodies (TCB) Council (a product certifiers' group) will meet on Sunday, July 16, 2000, between 4:00 and 6:00 PM the Quality Suites-Shady Grove. All registered participants for the R&TTE Training Workshop are welcome to attend the TCB Council meeting.

Dated: June 20, 2000.
Karen H. Brown,
Deputy Director.

[FR Doc. 00-16242 Filed 6-26-00; 8:45 am]

BILLING CODE 3510-13-M